DEPARTMENT OF ENERGY

Federal Energy Regulatory Commission

Combined Notice of Filings #1

Take notice that the Commission received the following electric rate filings:

Docket Numbers: ER20-2069-000.

Applicants: Wheatridge Wind Energy, LLC.

Description: Second Amendment to June 16, 2020 Wheatridge Wind Energy, LLC tariff filing.

Filed Date: 9/3/20.

Accession Number: 20200903-5212.

Comments Due: 5 p.m. ET 9/14/20.

Docket Numbers: ER20-2070-000.

Applicants: Wheatridge Wind II, LLC.

Description: Second Amendment to June 16, 2020 Wheatridge Wind II, LLC tariff filing.

Filed Date: 9/3/20.

Accession Number: 20200903-5213.

Comments Due: 5 p.m. ET 9/14/20.

Docket Numbers: ER20-2108-001.

Applicants: Great Bay Solar II, LLC.

Description: Tariff Amendment: Deficiency Response (ER20-2108) to be effective 8/18/2020.

Filed Date: 9/4/20.

Accession Number: 20200904-5152.

Comments Due: 5 p.m. ET 9/25/20.

Docket Numbers: ER20-2611-001.

Applicants: Southwest Power Pool, Inc.

Description: Tariff Amendment: 3723 Southwestern Power Admin/WFEC Inter Agr-Amended Filing to be effective 8/1/2020.

Filed Date: 9/9/20.

Accession Number: 20200909-5059.

Comments Due: 5 p.m. ET 9/30/20.

Docket Numbers: ER20-2816-000.

Applicants: PacifiCorp.

Description: Supplemental Information in Compliance with September 4, 2020 Order on Emergency Waiver Petition of PacifiCorp.

Filed Date: 9/8/20.

Accession Number: 20200908-5223.

Comments Due: 5 p.m. ET 9/29/20.

Docket Numbers: ER20-2837-000.

Applicants: Public Service Company of Colorado.

Description: § 205(d) Rate Filing: KEPCO_effective 1.1.21 to be effective 1/1/2021.

Filed Date: 9/9/20.

Accession Number: 20200909-5000.

Comments Due: 5 p.m. ET 9/30/20.

Docket Numbers: ER20-2838-000.

Applicants: California Independent System Operator Corporation.

Description: § 205(d) Rate Filing: 2020-09-09 Transferred Frequency Response Agreement—Tucson Electric Power to be effective 12/1/2020.

Filed Date: 9/9/20.

Accession Number: 20200909-5003.

Comments Due: 5 p.m. ET 9/30/20.

Docket Numbers: ER20-2839-000.

Applicants: Inova Energy LLC.

Description: Baseline eTariff Filing: Inova Energy LLC Market Based Rate Filing to be effective 11/8/2020.

Filed Date: 9/9/20.

Accession Number: 20200909-5005.

Comments Due: 5 p.m. ET 9/30/20.

Docket Numbers: ER20-2840-000.

Applicants: PJM Interconnection, L.L.C.

Description: § 205(d) Rate Filing: Original ISA No. 5744; Queue No. AF1-324 to be effective 8/10/2020.

Filed Date: 9/9/20.

Accession Number: 20200909-5069.

Comments Due: 5 p.m. ET 9/30/20.

Docket Numbers: ER20-2841-000.

Applicants: Southern California Edison Company.

Description: § 205(d) Rate Filing: Second Amended LGIA Maverick Solar Maverick Solar 4 EDF Renewables Almasol Gen to be effective 9/10/2020.

Filed Date: 9/9/20.

Accession Number: 20200909-5077.

Comments Due: 5 p.m. ET 9/30/20.

Docket Numbers: ER20-2842-000.

Applicants: Thunderhead Wind Energy LLC.

Description: Request for Prospective Tariff Waiver, et al. of Thunderhead Wind Energy LLC.

Filed Date: 9/9/20.

Accession Number: 20200909-5107.

Comments Due: 5 p.m. ET 9/30/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2020.
Nathaniel J. Davis, Sr.,
Deputy Secretary.

[FR Doc. 2020-20322 Filed 9-14-20; 8:45 am]

BILLING CODE 6717-01-P